DEPARTMENT OF EDUCATION

[Docket No.: ED-2022-SCC-0024]

Agency Information Collection Activities; Submission to the Office of Management and Budget for Review and Approval; Comment Request; 2023-2024 Free Application for Federal Student Aid (FAFSA)

AGENCY: Federal Student Aid (FSA), Department of Education (ED).

ACTION: Notice.

SUMMARY: In accordance with the Paperwork Reduction Act of 1995, ED is proposing a revision of a currently approved collection.

DATES: Interested persons are invited to submit comments on or before June 30, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Beth Grebeldinger at (202) 377-4018.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 2023-2024 Free Application for Federal Student Aid (FAFSA).

OMB Control Number: 1845-0001.

Type of Review: Revision of a currently approved collection.

Respondents/Affected Public: Individuals or Households.

Total Estimated Number of Annual Responses: 33,962,310.

Total Estimated Number of Annual Burden Hours: 22,844,712.

Abstract: Section 483, of the Higher Education Act of 1965, as amended (HEA), mandates that the Secretary of Education “. . . shall produce, distribute, and process free of charge common financial reporting forms as described in this subsection to be used for application and reapplication to determine the need and eligibility of a student for financial assistance . . .”.

The determination of need and eligibility are for the following Title IV, HEA, federal student financial assistance programs: The Federal Pell Grant Program; the Campus-Based programs (Federal Supplemental Educational Opportunity Grant (FSEOG) and Federal Work-Study (FWS)),; the William D. Ford Federal Direct Loan (Direct Loan) Program; the Teacher Education Assistance for College and Higher Education (TEACH) Grant; the Children of Fallen Heroes Scholarship; and the Iraq and Afghanistan Service Grant.

Federal Student Aid (FSA), an office of the U.S. Department of Education, subsequently developed an application process to collect and process the data necessary to determine a student's eligibility to receive Title IV, HEA program assistance. The application process involves an applicant's submission of the Free Application for Federal Student Aid (FAFSA®). After submission and processing of the FAFSA form, an applicant receives a Student Aid Report (SAR), which is a summary of the processed data they submitted on the FAFSA form. The applicant reviews the SAR, and, if necessary, will make corrections or updates to their submitted FAFSA data. Institutions of higher education listed by the applicant on the FAFSA form also receive a summary of processed data submitted on the FAFSA form which is called the Institutional Student Information Record (ISIR).

ED and FSA seek OMB approval of all application components as a single “collection of information.” The aggregate burden will be accounted for under OMB Control Number 1845-0001. The specific application components, descriptions, and submission methods for each are listed in Table 1.

Table 1—Federal Student Aid Application Components
Component | Description | Submission method
Initial Submission of FAFSA
FAFSA | The electronic version of the FAFSA form completed by applicants | Submitted by the applicant.
FAFSA—Renewal | The electronic version of the FAFSA form completed by applicants who have previously completed the FAFSA form |
FAFSA—EZ | The electronic version of the FAFSA form for applicants who qualify Automatic Zero (Auto Zero) needs analysis formula and the applicant's State of Legal Residence is one that allows for the skipping of questions not used in the EFC calculation |
FAFSA—EZ Renewal | The electronic version of the FAFSA form for applicants who have previously completed the FAFSA form and who qualifyAutomatic Zero (Auto Zero) needs analysis formula and the applicant's State of Legal Residence is one that allows for the skipping of questions not used in the EFC calculation |
FAA Access | Online tool that a financial aid administrator (FAA) utilizes to submit a FAFSA form | Submitted by an FAA on behalf of an applicant.
FAA Access—Renewal | Online tool that an FAA can utilize to submit a Renewal FAFSA form |
FAA Access—EZ | Online tool that an FAA can utilize to submit a FAFSA form for applicants who qualify for Auto Zero needs analysis formula and the applicant's State of Legal Residence is one that allows for the skipping of questions not used in the EFC calculation |
FAA Access—EZ Renewal | Online tool that an FAA can utilize to submit a FAFSA form for applicants who have previously completed the FAFSA form and who qualify Auto Zero needs analysis formula and the applicant's State of Legal Residence is one that allows for the skipping of questions not used in the EFC calculation |
Electronic Other | This is a submission done by an FAA, on behalf of the applicant, using the Electronic Data Exchange (EDE) | The FAA may be using their mainframe computer or software to facilitate the EDE process.
Printed FAFSA | The printed version of the PDF FAFSA for applicants who are unable to access the Internet or complete the form using fafsa.gov or the myStudentAid mobile app | Mailed by the applicant.
Correcting Submitted FAFSA Information and Reviewing FAFSA Information
fafsa.gov—Corrections | Any applicant who has a Federal Student Aid ID (FSA ID)—regardless of how they originally applied—may make corrections. | Submitted by the applicant
Electronic Other—Corrections | With the applicant's permission, corrections can be made by an FAA using the EDE | The FAA may be using their mainframe computer or software to facilitate the EDE process.
Paper SAR—This is a SAR and an option for corrections. | The full paper summary that is mailed to paper applicants who did not provide an e-mail address and to applicants whose records were rejected due to critical errors during processing. Applicants can write corrections directly on the paper SAR and mail for processing | Mailed by the applicant.
FAA Access—Corrections | An institution can use FAA Access to correct the FAFSA form | Submitted by an FAA on behalf of an applicant.
Internal Department Corrections | The Department will submit an applicant's record for system-generated corrections to the Central Processing System. There is no burden to the applicants under this correction type as these are system-based corrections | These corrections are system- generated.
Federal Student Aid Information Center (FSAIC) Corrections | Any applicant, with their Data Release Number (DRN), can change the postsecondary institutions listed on their FAFSA form or change their address by calling FSAIC | These changes are made directly in the CPS by an FSAIC representative.
SAR Electronic (eSAR) | The eSAR is an online version of the SAR that is available on fafsa.gov to all applicants with an FSA ID. Notification for the eSAR is sent to students who applied electronically or by paper and provided a valid e-mail address. These notifications are sent by e-mail and include a secure hyperlink that takes the user to the fafsa.gov site | Cannot be submitted for processing.
SAR Acknowledgement | The SAR Acknowledgement is a condensed paper SAR that is mailed to applicants who applied electronically but did not provide a valid email address | Cannot be submitted for processing.

This information collection also documents an estimate of the annual public burden as it relates to the application process for federal student aid. The Applicant Burden Model (ABM) measures applicant burden through an assessment of the activities each applicant conducts in conjunction with other applicant characteristics and, in terms of burden, the average applicant's experience. Key determinants of the ABM include:

• The total number of applicants that will potentially apply for federal student aid;

• How the applicant chooses to complete and submit the FAFSA form (e.g., by paper or electronically);

• How the applicant chooses to submit any corrections and/or updates (e.g., the paper SAR or electronically);

• The type of SAR document the applicant receives (eSAR, SAR acknowledgment, or paper SAR);

• The formula applied to determine the applicant's expected family contribution (EFC) (full need analysis formula, Simplified Needs Test or Automatic Zero); and

• The average amount of time involved in preparing to complete the application.

The ABM is largely driven by the number of potential applicants for the application cycle. The total application projection for 2023-2024 is based on the projected total enrollment into post-secondary education for Fall 2023. The ABM is also based on the application options available to students and parents. ED accounts for each application component based on analytical tools, survey information and other ED data sources.

For 2023-2024, ED is reporting a net burden decrease of 3,466,325 hours.

Dated: May 25, 2022.
Kun Mullan,
PRA Coordinator, Strategic Collections and Clearance Governance and Strategy Division, Office of Chief Data Officer, Office of Planning, Evaluation and Policy Development.

[FR Doc. 2022-11554 Filed 5-27-22; 8:45 am]

BILLING CODE 4000-01-P